DEPARTMENT OF ENERGY

Federal Energy Regulatory Commission

Notice of Application Ready for Environmental Analysis and Soliciting Comments, Recommendations, Terms and Conditions, and Prescriptions

December 18, 2003.

Take notice that the following hydroelectric application has been filed with the Commission and is available for public inspection.

a. Type of Application: New Major License.

b. Project No.: 382-026.

c. Date filed: February 26, 2003.

d. Applicant: Southern California Edison Company.

e. Name of Project: Borel Hydroelectric Project.

f. Location: On the Kern River near the town of Bodfish, Kern County, California. The canal intake for the project is located on approximately 188 acres of Sequoia National Forest Service lands.

g. Filed Pursuant to: Federal Power Act, 16 U.S.C. 791(a)-825(r).

h. Applicant Contact: Mr. Nino J. Mascolo, Senior Attorney, Southern California Edison Co., 2244 Walnut Grove Avenue, P.O. Box 800, Rosemead, California 91770.

i. FERC Contact: Emily Carter at (202) 502-6512 or Emily.Carter@ferc.gov.

j. Deadline for filing comments, recommendations, terms and conditions, and prescriptions: 60 days from the issuance of this notice. All reply comments must be filed with the Commission within 105 days from the date of this notice.

All documents (original and eight copies) should be filed with: Magalie R. Salas, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eLibrary” link.

k. This application has been accepted for filing and is now ready for environmental analysis.

l. The existing Borel Hydroelectric Project (Project) consists of: (1) A 158-foot long, 4-foot-high concrete diversion dam with fishway; (2) a 61-foot-long intake structure with three 10- by 10-foot radial gates; (3) a canal inlet structure consisting of a canal intake, trash racks, and a sluice gate; (4) a flowline with a combined total length of 1,985 feet of tunnel, 1,651feet of steel Lennon flume, 3,683 feet of steel siphon, and 51,835 feet of concrete-lined canal; (5) four steel penstocks—penstocks 1 and 2 are 526 feet long and 565 feet long, respectively with varying diameters between 42 and 60 inches, and penstocks 3 and 4 each have a 60-inch-diameter and extend 622 feet at which point they wye together to form a single 84-inch-diameter, 94-foot-long penstock; (6) a powerhouse with two 3,000-kW generators and one 6,000-kW generator for a total installed capacity of 12,000 kW or 12 MW; and (7) other appurtenant facilities. The Project has no storage capability and relies on water releases from Lake Isabella made by the U.S. Army Corp of Engineers.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Public notice of the filing of the initial development application, which has already been given, established the due date for filing competing applications or notices of intent.

Under the Commission's regulations, any competing development application must be filed in response to and in compliance with public notice of the initial development application. No competing applications or notices of intent may be filed in response to this notice.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Magalie R. Salas,
Secretary.

[FR Doc. E3-00640 Filed 12-24-03; 8:45 am]

BILLING CODE 6717-01-P